ENVIRONMENTAL PROTECTION AGENCY

[ER-FRL-6649-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-FHW-F40420-MI Rating EC2, I-75 from M-102 to M-59 Proposed Widening, Reconstruction and Transportation Improvements, Funding, NPDES Permit and U.S. Army COE Section 404 Permit, Oakland County, MI.

Summary: EPA has environmental concerns with the proposed project and recommends additional clarification regarding the two build alternatives (general purpose lane and high occupancy vehicle lane), indirect and cumulative impact analyses, and the use of native vegetation in the project area.

ERP No. D-FHW-L40221-00 Rating EC2, WA-35 Columbia River Crossing, Existing Bridge Replacement across the Columbia River between Hood River, Hood River, OR and White Salmon, WA.

Summary: EPA has environmental concerns with the proposed project related to air toxics, invasive species, rare plant surveys, and intersection design at the project's northern terminus. EPA also requests additional clarification of tribal coordination and environmental justice issues.

ERP No. DS-NIH-J81012-MT Rating EC2, Rocky Mountain Laboratories' (RML) Integrated Research Facility, Construction and Operation, Housing Biosafety Level (BSL)-2, BSL-3 and BSL-4 Laboratories, Analyzation of Associated Potential Impacts, Ravalli County, MT.

Summary: EPA expressed environmental concerns regarding: potential infections of facility staff; adequacy of backflow prevention devices on the water supply and the liquid waste decontamination procedures. EPA recommended the final EIS include development of a comprehensive risk notification and communication program for the local community.

Final EISs

ERP No. F-NRC-C06014-NY Generic EIS—License Renewal for R.E. Ginna Nuclear Power Plant, Supplement 14, NUREG-1437, Implementation, Wayne County, NY.

Summary: No formal comment letter was sent to the preparing agency.

Dated: March 2, 2004.
Ken Mittelholtz,
Environmental Protection Specialist, Office of Federal Activities.

[FR Doc. 04-5014 Filed 3-4-04; 8:45 am]

BILLING CODE 6560-50-P